DEPARTMENT OF TRANSPORTATION

National Highway Traffic Safety Administration

[Docket No. NHTSA-2025-0886]

Technical Translation Research; Request for Comment

AGENCY: National Highway Traffic Safety Administration (NHTSA), U.S. Department of Transportation (DOT).

ACTION: Notice; request for public comment.

SUMMARY: NHTSA conducted a multi-phase research project evaluating 81 Federal Motor Vehicle Safety Standards (FMVSS) to determine how they apply to innovative vehicle designs, particularly those incorporating Automated Driving Systems (ADS), and to identify potential challenges these vehicles may face in demonstrating conformance. This research was published in four volumes of research reports. While NHTSA continues to use the findings from this research to inform its ongoing FMVSS modernization efforts, the agency also recognizes that the industry is rapidly evolving, with new entrants and business models continually emerging. Accordingly, the agency finds value in soliciting additional public comments on this published work to further support its ongoing modernization efforts.

DATES: Comments must be submitted on or before February 13, 2026.

ADDRESSES: You may submit comments electronically to the docket identified in the heading of this document by visiting the Federal eRulemaking Portal at https://www.regulations.gov. Follow the online instructions for submitting comments.

Alternatively, you can file comments using the following methods:

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. ET, Monday through Friday, except Federal Holidays. To be sure someone is there to help you, please call 202-366-9826 before coming.

• Fax: 202-366-1767.

Instructions: All submissions must include the agency name and docket number. Note that all comments received will be posted without change to http://www.regulations.gov, including any personal information provided. Please see the Privacy Act discussion below.

Docket: For access to the docket go to http://www.regulations.gov at any time or to 1200 New Jersey Avenue SE, West Building, Ground Floor, Room W12-140, Washington, DC 20590 between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78), or you may visit http://www.regulations.gov/privacy.html.

Confidential Business Information: If you wish to submit any information under a claim of confidentiality, you must submit your request directly to NHTSA's Office of the Chief Counsel. Requests for confidentiality are governed by part 512. NHTSA is currently treating electronic submission as an acceptable method for submitting confidential business information to the agency under part 512. If you would like to submit a request for confidential treatment, you may email your submission to Dan Rabinovitz in the Office of the Chief Counsel at Daniel.Rabinovitz@dot.gov or you may contact him for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have deleted the claimed confidential business information, to the Docket at the address given above.

FOR FURTHER INFORMATION CONTACT: If you have questions about this request for comments, please contact Dee Williams at dee.williams@dot.gov or 202-366-7409.

SUPPLEMENTARY INFORMATION: The National Traffic and Motor Vehicle Safety Act of 1966 ¹ (Safety Act) created NHTSA and required and empowered ² the agency to establish “minimum standards for motor vehicle and motor vehicle equipment performance,” known as Federal Motor Vehicle Safety Standards (FMVSS).³ By requiring FMVSS to be established as performance requirements, and not design or development requirements, the Safety Act provides manufacturers with freedom to choose how to achieve the safety performance requirements established in an FMVSS. When promulgating FMVSS, NHTSA seeks to establish standards in such a way as to provide manufacturers with the flexibility to innovate and find increasingly effective and efficient means to meet or exceed the standards. That said, sometimes the agency cannot foresee the advent of new technological innovation when establishing standards, and drafts standards in a manner that inadvertently creates unintended and unnecessary barriers to technological advancement.

¹ Public Law 89-563, 80 Stat. 718

² 49 U.S.C. 30111.

³ 49 U.S.C. 30102(b)(10).

Historically, FMVSS have been established based on the assumption that a human driver would be operating the vehicle. With the introduction of ADS-equipped vehicles, the driving tasks are intended to be performed by the ADS, when operating, and not a human driver. The absence of a human driver creates opportunities for vehicle manufacturers to design new vehicle architectures that may remove driving controls, change seating configurations, and consider new interfaces for passengers. Compliance with existing FMVSS or demonstration thereof, may become challenging for such unconventional vehicle designs, due to references to a driver, or by linking a test procedure to human-performed actions and controls. The objective of this research was to gather data and evidence that could support decisions on potential adaptations of regulations to ensure equivalent safety performance standards in a manner that enables innovative, ADS-specific designs. The project also sought to adapt regulatory test procedures to accommodate NHTSA's evaluation of standards conformance for such designs. This effort was performed with extensive hands-on support from dozens of industry and safety experts. The findings were published in four volumes:

• Volume 1 (https://rosap.ntl.bts.gov/view/dot/54287)

○ This volume focuses on 12 FMVSS. It presents research findings on performance requirements and test procedures, focusing on technical translation options based on potential regulatory barriers identified for compliance demonstration of innovative vehicle designs, particularly those incorporating ADSs. It describes activities focused on six crash avoidance standards (FMVSS Nos. 102, 108, 114, 118, 138, and 141) and six crashworthiness standards (FMVSS Nos. 201, 202a, 203, 204, 205, and 206).

• Volume 2 (https://rosap.ntl.bts.gov/view/dot/54442)

○ This volume focuses on 18 FMVSS, including nine crash avoidance standards (FMVSS Nos. 101, 103, 104, 110, 111, 113, 124, 125, and 126) and nine crashworthiness standards (FMVSS Nos. 207, 208, 210, 214, 216a, 219, 222, 225, and 226).

• Volume 3 (https://rosap.ntl.bts.gov/view/dot/85074)

○ This volume focuses on 28 FMVSS, including 11 crash avoidance standards (FMVSS Nos. 105, 106, 109, 116, 117, 119, 121, 129, 135, 136, and 139), 15 crashworthiness standards for conventional seating designs (FMVSS Nos. 209, 212, 213, 217, 218, 219, 220, 221, 222, 301, 302, 303, 304, 305, and 401), 1 low-speed standard (FMVSS No. 500), and 1 crashworthiness standard for unconventional seating designs (FMVSS No. 208).

• Volume 4 (https://rosap.ntl.bts.gov/view/dot/88071)

○ This volume focuses on the remaining 23 FMVSS including the braking and electronic stability control (ESC) test methods for FMVSS Nos. 135 and 126; the heavy braking and ESC requirements associated with FMVSS Nos. 105, 121, and 136; the technical translations of FMVSS Nos. 122, 122a, 123, 131, 223, 224, 403, 404, and CFR part 571 Subpart A; and potential unconventional seating barriers associated with FMVSS Nos. 201, 202a, 207, 209, 210, 214, 216a, 219, and 226.

NHTSA welcomes all types of comments; however, the agency is particularly interested in whether there have been changes in industry, product plans, new concepts that may have impacted the scope of the documented effort and whether other issues may have been identified or newly emerged since the effort was carried out.

Please be as specific as you can in your feedback and minimally identify:

○ The relevant FMVSS

○ Specific regulatory text within the FMVSS

○ The ADS concept which may be viewed as encountering a new challenge

Issued on December 11, 2025, under authority delegated in 49 CFR 1.95.
Jonathan Morrison,
Administrator.

[FR Doc. 2025-22824 Filed 12-12-25; 8:45 am]

BILLING CODE 4910-59-P